UNITED STATES INSTITUTE OF PEACE

Notice of Meeting

Agency: United States Institute of Peace.

Date/Time: Thursday, March 17, 2005, 9 a.m.-3 p.m.

Location: 1200 17th Street, NW., Suite 200—Conference Room, Washington, DC 20036.

Status: Open Session—Portions may be closed pursuant to Subsection (c) of Section 552(b) of Title 5, United States Code, as provided in subsection 1706(h)(3) of the United States Institute of Peace Act, Public Law 98-525.

Agenda: March 2005 Board Meeting; Approval of Minutes of the One Hundred Seventeenth Meeting (November 18, 2004) of the Board of Directors; Chairman's Report; President's Report; Program Reports; Grant Review and Approval; Consideration of Fellowship Applications; Other General Issues.

Contact: Tessie Higgs, Executive Office, Telephone: (202) 429-3836.

Dated: February 23, 2005.
Michael Graham,
Executive Vice President, United States Institute of Peace.

[FR Doc. 05-4003 Filed 2-25-05; 12:54 pm]

BILLING CODE 6820-AR-M